DEPARTMENT OF THE INTERIOR

Fish and Wildlife Service

J.N. “Ding” Darling National Wildlife Refuge

AGENCY: Fish and Wildlife Service, Interior.

ACTION: Notice of intent to prepare a comprehensive conservation plan and environmental assessment for J.N. “Ding” Darling National Wildlife Refuge in Sanibel, Florida.

SUMMARY: The Fish and Wildlife Service intends to gather information necessary to prepare a comprehensive conservation plan and environmental assessment for J.N. “Ding” Darling National Wildlife Refuge. This notice is furnished in compliance with the Service's comprehensive conservation planning policy to advise other agencies and the public of our intentions, and to obtain suggestions and information on the scope of issues to be considered in the planning process.

DATES: To ensure consideration, comments must be received by August 13, 2007.

ADDRESSES: Comments, questions, and requests for more information regarding the J.N. “Ding” Darling National Wildlife Refuge planning process should be sent to: Rob Jess, Refuge Manager, J.N. “Ding” Darling National Wildlife Refuge, 1 Wildlife Drive, Sanibel, FL 33957; Telephone: 239/472-1100; Fax: 239/472-4061; Electronic mail: DingDarlingCCP@fws.gov/.

SUPPLEMENTARY INFORMATION: The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation. Public input in this planning process is essential.

Each unit of the National Wildlife Refuge System is established with specific purposes. These purposes are used to develop and prioritize management goals and objectives with the National Wildlife Refuge System mission, and to guide which public uses will occur on the refuge. The planning process is a means for the Service and the public to evaluate management goals and objectives for the best possible conservation efforts of this important wildlife habitat, while providing for wildlife-dependent recreation opportunities that are compatible with the refuge's establishing purposes and the mission of the National Wildlife Refuge System.

A comprehensive conservation planning process will be conducted that will provide opportunities for Tribal, State, and local governments; agencies; organizations; and the public to participate in issue scoping and public comment. The Service invites anyone interested to respond to the following questions:

1. What problems or issues do you want to see addressed in the comprehensive conservation plan?

2. What improvements would you recommend for J.N. “Ding” Darling National Wildlife Refuge?

The above questions have been provided for your optional use. You are not required to provide any information. The Planning Team developed these questions to gather information about individual issues and ideas concerning the refuge. The Planning Team will use comments it receives as part of the planning process; however, it will not reference individual comments or directly respond to them.

Special mailings, newspaper articles, and other media announcements will be used to inform State and local government agencies and the public of the opportunities for input throughout the planning process. Open house style meeting(s) will be scheduled and held throughout the scoping phase of the comprehensive conservation plan development process.

The environmental review of this project will be conducted in accordance with the requirements of the National Environmental Policy Act of 1969, as amended (42 U.S.C. 4321 et seq.); NEPA regulations (40 CFR parts 1500-1508); and other appropriate Federal laws and regulations. All comments received become part of the official public record. Before including your address, phone number, e-mail address, or other personal identifying information in your comment, you should be aware that your entire comment, including your personal identifying information, may be made publicly available at any time. While you can ask us in your comment to withhold your personal identifying information from public review, we cannot guarantee that we will be able to do so.

J.N. “Ding” Darling National Wildlife Refuge was originally established as the Sanibel National Wildlife Refuge in 1945. The refuge was originally established “for use as an inviolate sanctuary, or for any other management purposes, for migratory birds, and suitable for incidental fish and wildlife-oriented recreational development, the protection of natural resources, and the conservation of threatened and endangered species.” In 1967, the refuge was renamed in honor of Jay Norwood “Ding” Darling and now consists of 6,300 acres of mangrove estuary, freshwater spartina wetlands, and tropical hardwood hammocks. In 1976, Public Law 94-557 approved 2,825 acres of the refuge as a Wilderness Area.

Authority: This notice is published under the authority of the National Wildlife Refuge System Improvement Act of 1997, Public Law 105-57.

Dated: May 25, 2007.
Cynthia K. Dohner,
Acting Regional Director.

[FR Doc. E7-12451 Filed 6-26-07; 8:45 am]

BILLING CODE 4310-55-P